FEDERAL RESERVE SYSTEM

Sunshine Act Meeting

Agency Holding the Meeting: Board of Governors of the Federal Reserve System.

Time and Date: 10 a.m., Monday August 13, 2001.

Place: Marriner S. Eccles Federal Reserve Board Building, C Street entrance between 20th and 21st Streets, NW., Washington, DC 20551.

Status: Open.

Matters To Be Considered:

Discussion Agenda

1. Proposed 2002—2003 Federal Reserve Board budget objective.

2. Any items carried forward from a previously announced meeting.

Note: This meeting will be recorded for the benefit of those unable to attend. Cassettes will be available for listening in the Board's Freedom of Information Office, and copies may be ordered for $6 per cassette by calling 202-452-3684 or by writing to: Freedom of Information Office, Board of Governors of the Federal Reserve System, Washington, D.C. 20551.

Contact Person for More Information: Michelle A. Smith, Assistant to the Board; 202-452-3204.

Supplementary Information: You may call 202-452-3206 for a recorded announcement of this meeting; or you may contact the Board's Web site at http://www.federalreserve.gov for an electronic announcement. (The Web site also includes procedural and other information about the open meeting.)

Dated: August 6, 2001.
Robert deV. Frierson,
Deputy Secretary of the Board.

[FR Doc. 01-20069 Filed 8-8-01; 4:49 pm]

BILLING CODE 6210-01-P